DEPARTMENT OF TRANSPORTATION

National Highway Traffic Safety Administration

[Docket No. NHTSA-2020-0019; Notice 1]

Maserati North America, Inc., Receipt of Petition for Decision of Inconsequential Noncompliance

AGENCY: National Highway Traffic Safety Administration (NHTSA), Department of Transportation (DOT).

ACTION: Receipt of petition.

SUMMARY: Maserati North America, Inc., (MNA) has determined that certain model year (MY) 2014-2020 Maserati Quattroporte, MY 2014-2020 Maserati Ghibli, and MY 2017-2020 Maserati Levante motor vehicles do not fully comply with Federal Motor Vehicle Safety Standard (FMVSS) No. 135, Light Vehicle Brake Systems, FMVSS No.138, Tire Pressure Monitoring Systems, FMVSS No. 202a, Head restraints, and FMVSS No. 210, Seat Belt Assembly Anchorages. MNA filed a noncompliance report dated February 14, 2020. MNA subsequently petitioned NHTSA on March 6, 2020, for a decision that the subject noncompliance is inconsequential as it relates to motor vehicle safety. This notice announces receipt of MNA's petition.

DATES: Send comments on or before August 27, 2020.

ADDRESSES: Interested persons are invited to submit written data, views, and arguments on this petition. Comments must refer to the docket and notice number cited in the title of this notice and submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the docket. The docket ID number for this petition is shown in the heading of this notice.

DOT's complete Privacy Act Statement is available for review in a Federal Register notice published on April 11, 2000 (65 FR 19477-78).

SUPPLEMENTARY INFORMATION:

I. Overview: MNA has determined that certain MY 2014-2020 Maserati Quattroporte, MY 2014-2020 Maserati Ghibli, and MY 2017-2020 Maserati Levante motor vehicles do not fully comply with the requirements of paragraph S5.5.2(c) of FMVSS No. 135, Light Vehicle Brake Systems (49 CFR 571.135); paragraph S4.5(a) of FMVSS No. 138, Tire Pressure Monitoring Systems (49 CFR 571.138); paragraphs S4.7.1 and S4.7.2 of FMVSS No. 202a, Head Restraints (49 CFR 571.202a); and paragraph S6 of FMVSS No. 210, Seat Belt Assembly Anchorages (49 CFR 571.210). MNA filed a noncompliance report dated February 14, 2020, pursuant to 49 CFR part 573, Defect and Noncompliance Responsibility and Reports. MNA subsequently petitioned NHTSA on March 6, 2020, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of MNA's petition is published under 49 U.S.C. 30118 and 30120 and does not represent any Agency decision or other exercise of judgment concerning the merits of the petition.

II. Vehicles Involved: Approximately 70,406 MY 2014-2020 Maserati Quattroporte, MY 2014-2020 Maserati Ghibli, and 2017-2020 Maserati Levante motor vehicles manufactured between April 30, 2013, and February 7, 2020, are potentially involved.

III. Noncompliance: MNA explains that the noncompliance is that owner's manuals for the subject vehicles were provided in electronic form only instead of hardcopy and therefore, do not fully comply with paragraph S5.5.2(c) of FMVSS No. 135, paragraph S4.5(a) of FMVSS No. 138, paragraphs S4.7.1 and S4.7.2 of FMVSS No. 202a, and paragraph S6 of FMVSS No. 210. Specifically, certain information required by specific FMVSSs must be in paper or tangible format and provided with first sale of the vehicle.

IV. Rule Requirements: Paragraph S5.5.2(c) of FMVSS No. 135, paragraph S4.5(a) of FMVSS No. 138, paragraphs S4.7.1 and S4.7.2 of FMVSS No. 202a, and paragraph S6 of FMVSS No. 210 include the requirements relevant to this petition.

• The manufacturer shall explain the brake check function test procedure in the owner's manual.

• Beginning on September 1, 2006, the owner's manual in each vehicle certified as complying with S4 must provide an image of the Low Tire Pressure Telltale symbol (and an image of the TPMS Malfunction Telltale warning (TPMS), if a dedicated telltale is utilized for this function) with the following statement in English:

Each tire, including the spare (if provided), should be checked monthly when cold and inflated to the inflation pressure recommended by the vehicle manufacturer on the vehicle placard or tire inflation pressure label. (If your vehicle has tires of a different size than the size indicated on the vehicle placard or tire inflation pressure label, you should determine the proper tire inflation pressure for those tires.)

As an added safety feature, your vehicle has been equipped with a tire pressure monitoring system (TPMS) that illuminates a low tire pressure telltale when one or more of your tires is significantly under-inflated. Accordingly, when the low tire pressure telltale illuminates, you should stop and check your tires as soon as possible, and inflate them to the proper pressure. Driving on a significantly under-inflated tire causes the tire to overheat and can lead to tire failure. Under-inflation also reduces fuel efficiency and tire tread life, and may affect the vehicle's handling and stopping ability.

Please note that the TPMS is not a substitute for proper tire maintenance, and it is the driver's responsibility to maintain correct tire pressure, even if under-inflation has not reached the level to trigger illumination of the TPMS low tire pressure telltale.

[The following paragraph is required for all vehicles certified to the standard starting on September 1, 2007, and for vehicles voluntarily equipped with a compliant TPMS MIL before that time.] Your vehicle has also been equipped with a TPMS malfunction indicator to indicate when the system is not operating properly. [For vehicles with a dedicated MIL telltale, add the following statement: The TPMS malfunction indicator is provided by a separate telltale, which displays the symbol “TPMS” when illuminated.] [For vehicles with a combined low tire pressure/MIL telltale, add the following statement: The TPMS malfunction indicator is combined with the low tire pressure telltale. When the system detects a malfunction, the telltale will flash for approximately one minute and then remain continuously illuminated. This sequence will continue upon subsequent vehicle start-ups as long as the malfunction exists.] When the malfunction indicator is illuminated, the system may not be able to detect or signal low tire pressure as intended. TPMS malfunctions may occur for a variety of reasons, including the installation of replacement or alternate tires or wheels on the vehicle that prevent the TPMS from functioning properly. Always check the TPMS malfunction telltale after replacing one or more tires or wheels on your vehicle to ensure that the replacement or alternate tires and wheels allow the TPMS to continue to function properly.

• The owner's manual for each vehicle must emphasize that all occupants, including the driver, should not operate a vehicle or sit in a vehicle's seat until the head restraints are placed in their proper positions in order to minimize the risk of neck injury in the event of a crash.

• The owner's manual for each vehicle must:

○ Include an accurate description of the vehicle's head restraint system in an easily understandable format. The owner's manual must clearly identify which seats are equipped with head restraints;

○ If the head restraints are removeable, the owner's manual must provide instructions on how to remove the head restraint by a deliberate action distinct from any act necessary for upward adjustment, and how to reinstall head restraints;

○ Warn that all head restraints must be reinstalled to properly protect vehicle occupants;

○ Describe in an easily understandable format the adjustment of the head restraints and/or seat back to achieve appropriate head restraint position relative to the occupant's head. This discussion must include, at a minimum, accurate information on the following topics:

A presentation and explanation of the main components of the vehicle's head restraints;

The basic requirements of proper head restraint operation, including an explanation of the actions that may affect proper functioning of the head restraints; and

The basic requirements for proper positioning of a head restraint in relation to an occupant's head position, including information regarding the proper positioning of the center of gravity of an occupant's head or some other anatomical landmark in relation to the head restraint.

• The owner's manual in each vehicle with a gross vehicle weight rating of 4,536 or less manufactured after September 1, 1987, shall include:

○ A section explaining that all child restraint systems are designed to be secured in vehicle seats by lap belts or the lap belt portion of a lap-shoulder belt. The section shall also explain that children could be endangered in a crash if their child restraints are not properly secured in the vehicle; and

○ In a vehicle with rear designated seating positions, a statement alerting vehicle owners that, according to accident statistics, children are safer when properly restrained in the rear seating positions than in the front seating positions.

V. Summary of MNA's Petition: The following views and arguments presented in this section are the views and arguments provided by MNA. They have not been evaluated by the Agency and do not reflect the views of the Agency. MNA described the subject noncompliance and stated their belief that the noncompliance is inconsequential as it relates to motor vehicle safety.

In support of its petition, MNA submitted the following reasoning:

1. The required information and explanations to comply with the referenced FMVSS are readily available in the vehicle through the electronic owner's manuals included with the vehicle.

2. An interpretation issued by NHTSA's Chief Counsel to Congressman Bob Goodlatte, dated May 18, 2009, states that the information required by certain FMVSS must be provided in paper, tangible format. MNA believes this is not directly applicable to this situation due to advances in technology over the last 10 years. The situation envisioned in the 2009 interpretation required a separate, off-vehicle, CD device in at least some cases for owners to access the manual. The electronic Maserati owner's manual is available for use on all affected vehicles through the center console screen with no additional equipment required.

3. MY 2014-2016 Vehicles:

a. The DVD used in MY 2014-2016 vehicles provides the same or greater level of utility as paper manuals. The DVD is organized into functional chapters with sections in each chapter similar to the printed owner's manual. The DVD can be copied by vehicle owners, providing the ability to have separate copies at home and in the vehicle, if desired. In addition, the owner's manual in PDF format is included on the DVD.

b. The DVD manual is enabled to “auto play” when inserted into the standard equipment DVD player on the vehicle. The DVD manual has active links for each section shown in the table of contents at each level. This allows the user to automatically “jump” to the desired information rather than search through physical pages to reach the correct part of a paper manual.

c. For driver safety, the DVD reader is only available when the vehicle is not moving.

d. All affected vehicles have a standard DVD player in the center stack capable of reading the DVD. An off-vehicle device is not required to read the owner's manual.

e. Printed owner's manuals are available through dealers or online for customers that desire them.

f. MNA is not aware of any crashes, injuries, or customer complaints associated with this condition.

4. 2017-2020 Vehicles:

a. The integrated manual used in MY 2017-2020 vehicles provides greater functionality compared to printed manuals. Owners can search the owner's manual using text fields as well as search by visual icon, allowing rapid access to explanations and warnings. The system further provides the ability to explore the vehicle through diagrams linked to all applicable text descriptions. Portions of the manual can be bookmarked for easy access later through a “Favorites” function.

b. The manual can be accessed from the Maserati emblem on the touchscreen. This opens the “Apps” screen with the User Guide available as an option on the second screen. The Owner's Manual is available from the User Guide screen, as well.

c. All screens use hyperlinks to allow users to quickly scroll down to desired information. The Index function allows search by either “A-Z Index” or visual icon.

d. Further functionality is provided to users in being able to access interactive schematics of the vehicle hyperlinked to explanations of key items.

e. Additionally, users can perform keyword searches using the Search function and can bookmark favorites just by clicking on the star icon.

f. Unlike paper owners' manuals, which can be removed from the vehicle and thus unavailable to future owners or lessees, the on-vehicle integrated manual will always be available, including to subsequent owners or lessees.

g. Printed owner's manuals are available through dealers or online for customers that desire them.

h. MNA is not aware of any crashes, injuries, or customer complaints associated with this condition.

5. MNA submits that all of the safety information required by the referenced FMVSS is readily available to the vehicle operator, consistent with the safety purpose of the standards. Unlike the electronic owners' manuals described in the 2009 legal interpretation to Congressman Goodlatte, which required operators to use off-vehicle devices to access the information, MNA vehicles provide easy, onvehicle access to the required safety information.

6. Because the information is readily available to the operator through on-vehicle technology, MNA believes that the fact that this information is not also provided to operators in paper form is inconsequential to motor vehicle safety.

MNA concluded by expressing the belief that the subject noncompliance is inconsequential as it relates to motor vehicle safety, and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that MNA no longer controlled at the time it determined that the noncompliance existed. However, any decision on this petition does not relieve vehicle distributors and dealers of the prohibitions on the sale, offer for sale, or introduction or delivery for introduction into interstate commerce of the noncompliant vehicles under their control after MNA notified them that the subject noncompliance existed.

(Authority: 49 U.S.C. 30118, 30120: delegations of authority at 49 CFR 1.95 and 501.8)

Otto G. Matheke III,
Director, Office of Vehicle Safety Compliance.

[FR Doc. 2020-16336 Filed 7-27-20; 8:45 am]

BILLING CODE 4910-59-P